DEPARTMENT OF STATE

[Public Notice 3853]

Notice of Meeting of the Cultural Property Advisory Committee

AGENCY: Department of State.

ACTION: Notice.

The Cultural Property Advisory Committee will meet on Wednesday, January 23, 2002, from approximately 9 a.m. to 5 p.m., and on Thursday, January 24, from approximately 9 a.m. to 2 p.m., at the Department of State, Annex 44, Room 800-A, 301 4th St., SW., Washington, DC. During its meeting the Committee will review a request from the Government of the Republic of Honduras to the Government of the United States of America. Concerned that its cultural heritage is in jeopardy from pillage, the Government of the Republic of Honduras made this request under Article 9 of the 1970 UNESCO Convention.

The Committee's responsibilities are carried out in accordance with provisions of the Convention on Cultural Property Implementation Act (19 U.S.C. 2601 et seq.). A copy of the Act, a public summary of this request, a bibliography of documents researched by the Committee that are otherwise available to the public, and related information may be found at: http://exchanges.state.gov/education/culprop. During its meeting on January 23, the Committee will hold an open session, 10:30 a.m.-12:30 p.m., to receive oral public comment on the Honduras request. Persons wishing to attend this open session should notify the Cultural Property office at (202) 619-6612 by Tuesday, January 15,2002, to arrange for admission, as seating is limited. Those who wish to make oral presentations should also request to be scheduled, and submit a written text of the oral comments by January 15 to allow time for distribution of them to Committee members prior to the meeting. Oral comments will be limited to five minutes each to allow time for questions from members of the Committee and must specifically address the determinations under section 303(a)(1) of the Convention on Cultural Property Implementation Act, 19 U.S.C. 2602, for which the Committee must make findings.

Those determinations are: “(A) That the cultural patrimony of the State Party (Honduras) is in jeopardy from pillage of archaeological or ethnological materials; (B) that the State Party has taken measures consistent with the Convention to protect its cultural patrimony; (C) that (i) the application of the import restrictions, if applied in concert with similar restrictions implemented, or to be implemented within a reasonable period of time, by those nations * * * individually having a significant import trade in such material, would be of substantial benefit in deterring a serious situation of pillage, and (ii) remedies less drastic than the application of the restrictions * * * are not available; and (D) that the application of import restrictions. is consistent with the general interest of the international community in the interchange of cultural property among nations for scientific, cultural, and educational purposes * * *”. The Committee also invites written comments and asks that they be submitted by January 15. All written materials, including the written texts of oral statements, should be faxed to (202) 619-5177.

Other portions of the meeting on January 23 and 24 will be closed pursuant to 5 U.S.C. 552b(c)(9)(B) and 19 U.S.C. 2605(h).

Dated: December 11, 2001.
Patricia S. Harrison,
Assistant Secretary for Educational and Cultural Affairs, Department of State.

[FR Doc. 01-31028 Filed 12-17-01; 8:45 am]

BILLING CODE 4710-11-P